DEPARTMENT OF COMMERCE

International Trade Administration

[A-570-881]

Malleable Cast Iron Pipe Fittings From the People's Republic of China: Rescission of Antidumping Duty Administrative Review; 2017-2018

AGENCY: Enforcement and Compliance, International Trade Administration, Department of Commerce.

SUMMARY: The Department of Commerce (Commerce) is rescinding the administrative review of the antidumping duty order on malleable cast iron pipe fittings from the People's Republic of China (China) for the period December 1, 2017, through November 30, 2018.

DATES: Applicable May 20, 2019.

FOR FURTHER INFORMATION CONTACT: Jean Valdez, AD/CVD Operations, Office III, Enforcement and Compliance, International Trade Administration, U.S. Department of Commerce, 1401 Constitution Avenue NW, Washington, DC 20230; telephone: (202) 482-3855.

SUPPLEMENTARY INFORMATION:

Background

On December 3, 2018, Commerce published a notice of opportunity to request an administrative review of the antidumping duty order on malleable cast iron pipe fittings from China.¹ On December 31, 2018, Commerce received a timely request to conduct an administrative review of the antidumping order from Anvil International (Anvil), in accordance with section 751(a) of the Tariff Act of 1930, as amended (the Act), and 19 CFR 351.213(b).² Based upon this request, on March 14, 2019, in accordance with section 751(a) of the Act, Commerce published in the Federal Register a notice of initiation of administrative review covering the period December 1, 2017, through November 30, 2018.³ On April 17, 2019, Anvil timely withdrew its request for an administrative review with respect to all companies identified in the request.⁴ No other party requested an administrative review of this order.

¹ See Antidumping or Countervailing Duty Order, Finding, or Suspended Investigation; Opportunity to Request Administrative Review, 83 FR 62293 (December 3, 2018).

² See letter from Anvil, “Malleable Cast Iron Pipe Fittings from the People's Republic of China: Request for Administrative Review,” dated December 31, 2018.

³ See Initiation of Antidumping and Countervailing Duty Administrative Reviews, 84 FR 9297 (March 14, 2019) (Initiation Notice). Due to the partial federal government closure from December 22, 2018, through the resumption of operations on January 29, 2019, the publication of the initiation notice for orders with December anniversary months was delayed until March 14, 2019.

⁴ See letter from Anvil, “Malleable Cast Iron Pipe Fittings from the People's Republic of China: Withdrawal of Request for Administrative Review,” dated April 17, 2019.

Rescission of Review

Pursuant to 19 CFR 351.213(d)(1), the Secretary will rescind an administrative review, in whole or in part, if a party who requested the review withdraws the request within 90 days of the date of publication of the notice of initiation of the requested review. As noted above, Anvil timely withdrew its request for an administrative review in its entirety and with respect to all companies identified in the Initiation Notice by the 90-day deadline. Because no other party requested a review of these companies, we are rescinding a review of the order in its entirety, in accordance with 19 CFR 351.213(d)(1).

Assessment

Commerce will instruct U.S. Customs and Border Protection (CBP) to assess antidumping duties on all appropriate entries of malleable cast iron pipe fittings from China at rates equal to the cash deposit of estimated antidumping duties required at the time of entry, or withdrawal from warehouse, for consumption, during the period December 1, 2017, to November 30, 2018, in accordance with 19 CFR 351.212(c)(1)(i). Commerce intends to issue appropriate assessment instructions to CBP 15 days after publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of the antidumping duties occurred and the subsequent assessment of doubled antidumping duties.

Notification Regarding Administrative Protective Order

This notice also serves as the only reminder to parties subject to administrative protective order (APO) of their responsibility concerning the return or destruction of proprietary information disclosed under an APO in accordance with 19 CFR 351.305(a)(3). Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: May 8, 2019.
Gary Taverman,
Deputy Assistant Secretary for Antidumping and Countervailing Duty Operations.

[FR Doc. 2019-10436 Filed 5-17-19; 8:45 am]

BILLING CODE 3510-DS-P